SMALL BUSINESS ADMINISTRATION

[Disaster Declaration #16989 and #16990; West Virginia Disaster Number WV-00053]

Presidential Declaration of a Major Disaster for the State of West Virginia

AGENCY: Small Business Administration.

ACTION: Notice.

SUMMARY: This is a Notice of the Presidential declaration of a major disaster for the State of West Virginia (FEMA-4605-DR), dated 05/20/2021.

Incident: Severe Storms and Flooding.

Incident Period: 02/27/2021 through 03/04/2021.

DATES: Issued on 05/20/2021.

Physical Loan Application Deadline Date: 07/19/2021.

Economic Injury (EIDL) Loan Application Deadline Date: 02/22/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 05/20/2021, applications for disaster loans may be filed at the address listed above or other locally announced locations.

The following areas have been determined to be adversely affected by the disaster:

Primary Counties (Physical Damage and Economic Injury Loans): Cabell, Kanawha, Mingo, Wayne.

Contiguous Counties (Economic Injury Loans Only):

West Virginia: Boone, Clay, Fayette, Jackson, Lincoln, Logan, Mason, McDowell, Nicholas, Putnam, Raleigh, Roane, Wyoming.

Kentucky: Boyd, Lawrence, Martin, Pike.

Ohio: Gallia, Lawrence.

Virginia: Buchanan.

The Interest Rates are:

| Percent
For Physical Damage:
Homeowners with Credit Available Elsewhere | 2.500
Homeowners without Credit Available Elsewhere | 1.250
Businesses with Credit Available Elsewhere | 6.000
Businesses without Credit Available Elsewhere | 3.000
Non-Profit Organizations with Credit Available Elsewhere | 2.000
Non-Profit Organizations without Credit Available Elsewhere | 2.000
For Economic Injury:
Businesses & Small Agricultural Cooperatives without Credit Available Elsewhere | 3.000
Non-Profit Organizations without Credit Available Elsewhere | 2.000

The number assigned to this disaster for physical damage is 16989 6 and for economic injury is 16990 0.

(Catalog of Federal Domestic Assistance Number 59008)

James Rivera,
Associate Administrator for Disaster Assistance.

[FR Doc. 2021-11224 Filed 5-26-21; 8:45 am]

BILLING CODE 8026-03-P